NATIONAL AERONAUTICS AND SPACE ADMINISTRATION

48 CFR Parts 1837 and 1852

RIN 2700-AE01 and 2700-AE09

NASA Federal Acquisition Regulation Supplement; Correction

AGENCY: National Aeronautics and Space Administration.

ACTION: Correcting amendments.

SUMMARY: The National Aeronautics and Space Administration (NASA) published a final rule in the Federal Register on Thursday, March 12, 2015 (80 FR 12935), as part of the NASA Federal Acquisition Regulation Supplement (NFS) regulatory review. That final rule became effective on April 13, 2015, however the date of effectivity for the affected clauses was inadvertently omitted. This document corrects the final rule by adding the missing clause dates and makes other minor editorial changes.

DATES: Effective: August 19, 2015.

FOR FURTHER INFORMATION CONTACT: Manuel Quinones, NASA, Office of Procurement, Contract and Grant Policy Division, via email at manuel.quinones@nasa.gov, or telephone (202) 358-2143.

SUPPLEMENTARY INFORMATION:

I. Background

NASA published a final rule in the Federal Register on March 12, 2015, which became effective April 13, 2015. This rule is part of the NASA FAR Supplement regulatory review. As published, the rule contains errors due to inadvertent omission of affected clause dates and other errors that need to be corrected. Specifically, clause date of “APR 2015” is to be added to NFS 1852.215-77, 1852.219-11, 1852.219-18, 1852.219-75, 252.219-77, 1852.219-79, 1852.223-71, 1852.223-73, 1852.227-11, 1852.227-14, 1852.227-70, 1852.227-71, 1852.227-72, 1852.227-84, 1852.227-85, 1852.227-86, and 1852.227-88. NASA is not altering the text of these NFS clauses, but merely adding the missing clause dates. Additionally, NFS clause prescription at 1809.206-71 was correctly removed. However, the corresponding clause at 1852.209-70 should also have been removed and reserved at amendatory instruction no. 66 on page 12945 (80 FR 12945).

List of Subject in 48 CFR Parts 1837 and 1852

Government procurement.

Manuel Quinones,
Federal Register Liaison.

Accordingly, 48 CFR part 1852 is amended as follows:

PART 1852—SOLICITATION PROVISIONS AND CONTRACT CLAUSES

1. The authority citation for part 1852 continues to read as follows:

Authority: 51 U.S.C. 20113(a) and 48 CFR chapter 1.

1852.215-77, 1852.219-11, 1852.219-18, 1852.219-75, 252.219-77, 1852.219-79, 1852.223-71, 1852.223-73, 1852.227-70, 1852.227-71, 1852.227-72, 1852.227-84, 1852.227-85, 1852.227-86, and 1852.227-88 [Amended]

2. Amend sections 1852.215-77, 1852.219-11, 1852.219-18, 1852.219-75, 252.219-77, 1852.219-79, 1852.223-71, 1852.223-73, 1852.227-70, 1852.227-71, 1852.227-72, 1852.227-84, 1852.227-85, 1852.227-86, and 1852.227-88 by removing “MONTH/YEAR” and adding “APR 2015” in its place.

1852.209-70 [Removed and Reserved]

3. Remove and reserve section 1852.209-70.

4. Amend section 1852.216-88:

a. By removing clause date of “JAN 1997” and adding “APR 2015” in its place.

b. By revising the second sentence in paragraph (a)(1). The revision reads as follows:

1852.216-88 Performance incentive.

* * * * *

(a) * * *

(1) * * * The performance incentive becomes effective when the item is put into service. * * *

* * * * *

1852.223-76 [Amended]

5. Amend section 1852.223-76 by removing “http://fastweb.inel.gov/” and adding “https://fastweb.inel.gov/” in its place.

1852.227-11 and 1852.227-14 [Amended]

6. Amend in sections 1852.227-11 and 1852.227-14 by removing “DATE” and adding “APR 2015” in its place.

[FR Doc. 2015-20418 Filed 8-18-15; 8:45 am]

BILLING CODE 7510-13-P